DEPARTMENT OF TRANSPORTATION

Federal Aviation Administration

Notice of Intent To Rule on Application 05-07-C-00-DLH To Impose and Use the Revenue From a Passenger Facility Charge (PFC) at Duluth International Airport, Duluth, MN

AGENCY: Federal Aviation Administration (FAA), DOT.

ACTION: Notice of intent to rule on application

SUMMARY: The FAA proposes to rule and invites public comment on the application to impose and use the revenue from a PFC at Duluth International Airport under the provisions of the 49 U.S.C. 40117 and part 158 of the Federal Aviation Regulations (14 CFR part 158).

DATES: Comments must be received on or before January 14, 2004.

ADDRESSES: Comments on this application may be mailed or delivered in triplicate to the FAA at the following address: Federal Aviation Administration, Minneapolis Airports District Office, 6020 28th Avenue South, Room 102, Minneapolis, Minnesota 55450-2706.

In addition, one copy of any comments submitted to the FAA must be mailed or delivered to Mr. Brian D. Ryks, Executive Director, of the Duluth Airport Authority at the following address: Duluth Airport Authority, Duluth International Airport 4701 Grinden Drive, Duluth, MN 55811.

Air carriers and foreign air carriers may submit copies of written comments previously provided to the Duluth Airport Authority under section 158.23 of part 158.

FOR FURTHER INFORMATION CONTACT: Mr. Gordon Nelson, Program Manager, Federal Aviation Administration, Minneapolis Airports District Office, 6020 28th Avenue South, Room 102, Minneapolis, Minnesota 55450-2706, telephone (612) 713-4358. The application may be reviewed in person at this same location.

SUPPLEMENTARY INFORMATION: The FAA proposes to rule and invites public comment on the application to impose and use the revenue form a PFC at Duluth International Airport under the provisions of the 49 U.S.C. 40117 and part 158 of the Federal Aviation Regulations (14 CFR part 158).

On December 3, 2004, the FAA determined that the application to impose and use the revenue form a PFC submitted by the Duluth Airport Authority was substantially complete within the requirements of section 158.25 of part 158. The FAA will approve or disapprove the application, in whole or in part, no later than March 8, 2005.

The following is a brief overview of the application.

Proposed charge effective date: March 1, 2005.

Proposed charge expiration date: April 1, 2010.

Level of the proposed PFC: $4.50.

Total estimated PFC revenue: $2,745,402.

Brief description of proposed projects: Prepare Passenger Facility Charge application; improve Runway 21 Runway Safety Area (RSA); replace Runway End Identifier Lights (REIL) for Runway 21; rehabilitate Taxiways A, A-5, and run-up pad; rehabilitate the Medium Intensity Taxiway Edge Lighting System (MITL) for Taxiways A, A-5, and the run-up pad; prepare Environmental Assessment for construction and installation of a perimeter road and security/safety fence; rehabilitate Taxiway E (1,000 feet) and taxiway edge lighting system; rehabilitate Runway 9/27 and replace the High Intensity Runway Edge Lighting system (HIRL) (3 phases); replace/install airfield signs along Runway 9/27 and associated taxiways (3 phases); acquire a passenger boarding bridge; acquire a runway sweeper; construct perimeter road (2 phases); install security/safety fencing (2 phases); construct aircraft rescue and fire fighting facility; wetland mitigation for north-side airfield development; purchase replacement snow removal equipment (rotary snow blower, batwing snow plow, and snow sweeper). Class or classes of air carriers, which the public agency has requested, not be required to collect PFCs: non-scheduled part 135 Air Taxi/Commercial Operators (ATCO).

Any person may inspect the application in person at the FAA office listed above under FOR FURTHER INFORMATION CONTACT.

In addition, any person may, upon request, inspect the application, notice and other documents germane to the application in person at the Duluth Airport Authority.

Issued in Des Plaines, Illinois on December 9, 2004.
Barbara Jordan,
Acting Manager, Planning/Programming Branch, Airports Division, Great Lakes Region.

[FR Doc. 04-27457 Filed 12-14-04; 8:45 am]

BILLING CODE 4910-13-M